DEPARTMENT OF ENERGY

Environmental Management Site-Specific Advisory Board, Paducah

AGENCY: Department of Energy (DOE).

ACTION: Notice of open meeting.

SUMMARY: This notice announces the subcommittee meetings of the Deactivation and Decommissioning/Facilities Subcommittee, the Environmental Remediation Subcommittee, and the Community Engagement Subcommittee of the Environmental Management Site-Specific Advisory Board (EM SSAB), Paducah (known locally as the Paducah Citizens Advisory Board [Paducah CAB]). The Federal Advisory Committee Act (Pub. L. 92-463, 86 Stat. 770) requires that public notice of this meeting be announced in the Federal Register.

DATES: Thursday, February 18, 2016, 5:00 p.m.-8:00 p.m.

ADDRESSES: Barkley Centre, 111 Memorial Drive, Paducah, Kentucky 42001.

FOR FURTHER INFORMATION CONTACT: Jennifer Woodard, Deputy Designated Federal Officer, Department of Energy Paducah Site Office, Post Office Box 1410, MS-103, Paducah, Kentucky 42001, (270) 441-6825.

SUPPLEMENTARY INFORMATION: Purpose of the Board: The purpose of the Board is to make recommendations to DOE-EM and site management in the areas of environmental restoration, waste management and related activities.

Purpose of the Deactivation and Decommissioning (D&D)/Facility Subcommittee: The mission of the D&D/Facilities Subcommittee is to evaluate and make recommendations on DOE's planning and implementation of future D&D cleanup at the Paducah Gaseous Diffusion Plant (PGDP).

Purpose of the Environmental Remediation Subcommittee: The mission of the Environmental Remediation Subcommittee is to evaluate and make recommendations on DOE's approach to remedial alternatives associated with burial grounds, groundwater treatment, and soils remediation located on the PGDP site. The Subcommittee will facilitate public participation in providing feedback to DOE on these decisions considering human health and the environment. DOE complex-wide concerns and impacts related to DOE's missions will also be considered.

Purpose of the Community Engagement Subcommittee: The mission of the Community Engagement Subcommittee is to make recommendations regarding the short and long term vision for preserving and archiving the role of the PGDP in the community and the nation that represents the communities' interest.

Tentative Agendas

D&D/Facilities Subcommittee—5:00 p.m.-6:30 p.m.

• Call to Order, Introductions, Review of Agenda

• Next Steps and Actions

• Public Comments (15 minutes)

• Adjourn

Environmental Remediation Subcommittee—5:00 p.m.-6:30 p.m.

• Call to Order, Introductions, Review of Agenda

• Next Steps and Actions

• Public Comments (15 minutes)

• Adjourn

Community Engagement Subcommittee—6:30 p.m.-8:00 p.m.

• Call to Order, Introductions, Review of Agenda

• Next Steps and Actions

• Public Comments (15 minutes)

• Adjourn

Breaks Taken As Appropriate

Public Participation: The Paducah CAB's Committees welcome the attendance of the public at their committee meetings and will make every effort to accommodate persons with physical disabilities or special needs. If you require special accommodations due to a disability, please contact Jennifer Woodard as soon as possible in advance of the meeting at the telephone number listed above. Written statements may be filed with the Committees either before or after the meeting. Individuals who wish to make oral statements pertaining to agenda items should contact Jennifer Woodard at the telephone number listed above. Requests must be received as soon as possible prior to the meeting and reasonable provision will be made to include the presentation in the agenda. The Deputy Designated Federal Officer is empowered to conduct the meeting in a fashion that will facilitate the orderly conduct of business. Individuals wishing to make public comments will be provided a maximum of five minutes to present their comments. The Paducah CAB's Committees will hear public comments pertaining to its scope (clean-up standards and environmental restoration; waste management and disposition; stabilization and disposition of non-stockpile nuclear materials; excess facilities; future land use and long-term stewardship; risk assessment and management; and clean-up science and technology activities). Comments outside of the scope may be submitted via written statement as directed above.

Minutes: Minutes will be available by writing or calling Jennifer Woodard at the address and phone number listed above. Minutes will also be available at the following Web site: http://www.pgdpcab.energy.gov/2016Meetings.html.

Issued at Washington, DC on January 21, 2016.
LaTanya R. Butler,
Deputy Committee Management Officer.

[FR Doc. 2016-01650 Filed 1-26-16; 8:45 am]

BILLING CODE 6450-01-P